DEPARTMENT OF HOMELAND SECURITY

[Docket No. DHS-2024-0013]

Establishment of the Homeland Intelligence Advisory Board

AGENCY: Office of Intelligence and Analysis, Department of Homeland Security (DHS).

ACTION: Notice of the establishment.

SUMMARY: The Department of Homeland Security, through the Office of Intelligence and Analysis, is establishing the Homeland Intelligence Advisory Board (“the Board”). This Notice is not a solicitation for membership.

FOR FURTHER INFORMATION CONTACT: Steven Cash, Senior Advisor to the Under Secretary for Intelligence and Analysis, Office of I&A, U.S. Department of Homeland Security, 202-282-9855, email HIAB@hq.dhs.gov.

SUPPLEMENTARY INFORMATION: The Board is an advisory body that provides information, advice, and recommendations to the Under Secretary for Intelligence and Analysis and the Counterterrorism Coordinator regarding the Department's role in intelligence-related activities and effective integration of the DHS Intelligence Enterprise. The Board will provide the Under Secretary an independent and balanced forum for debate and critical assessment of the Office of Intelligence and Analysis (I&A) and the Department's Intelligence Enterprise. The duties of the Board are solely advisory in nature and shall extend only to the submission of information, advice, and recommendations to the Under Secretary. In recognition of the sensitive nature of the subject matter involved, the Secretary exempted the Board from the Federal Advisory Committee Act.

The scope of the Board's activities may include, but need not be limited to, advice and recommendations from sector representatives regarding how the Department can facilitate multidirectional intelligence and information sharing; facilitate the identification of intelligence requirements and needs; facilitate access to I&A products, resources, and expertise; ensure operational adherence to principles of privacy and civil liberties; and, advocate for priorities across I&A, the DHS Intelligence Enterprise, and the federal government Intelligence Community in support of Homeland Security missions. The Secretary is establishing the Board pursuant to section 871(a) of the Homeland Security Act of 2002. In recognition of the sensitive nature of the subject matter involved, the Secretary hereby exempts the Board from The Federal Advisory Committee Act (FACA), 5 U.S.C. ch. 10. This notice is being provided in accordance with 6 U.S.C. 451(a).

Membership: The Under Secretary shall appoint up to forty (40) members to serve as Board Members and represent key sectors of the intelligence enterprise. Members will represent the following sectors: National or Homeland Security including Intelligence Collection and Information Sharing; Privacy and Civil Liberties; State, Local, Tribal, Territorial, and Private Sector (“SLTTP”) with Homeland Security responsibilities; Law; Law Enforcement; Legislative Activities; Academia and the Research Community; Owners and Operators of Critical Infrastructure or Resources; and Under Secretary selections. The Under Secretary shall Chair the Board and shall select a Co-Chair from among the members of the Board. The Under Secretary shall be a non-voting member of the Board. The Chair shall lead Board meetings and provide strategic leadership and direction for the Board discussions and activities. The term of office of the Co-Chair shall be two years. The Co-Chair may be reappointed by the Under Secretary, not to exceed two additional terms. If the Co-Chair is not able to serve for an entire term, the Under Secretary shall make a new appointment.

The Board Members shall be appointed by and serve at the pleasure of the Under Secretary. Members shall serve a term of five years, with the opportunity to be reappointed for one additional term.

In order to fully leverage broad-ranging experience and education, the Board must be diverse with regard to professional and technical expertise. DHS is committed to pursuing opportunities, consistent with applicable law, to compose a board that reflects the diversity of the United States.

Appointments shall be made without regard to political affiliation. In the event the Board is terminated, all appointments to the Board shall terminate automatically.

Duration: The Secretary may extend the Board every two years as the Secretary deems appropriate, pursuant to 6 U.S.C. 451.

Michael J. Miron,
Committee Management Officer, Department of Homeland Security.

[FR Doc. 2024-10869 Filed 5-17-24; 4:15 pm]

BILLING CODE 9110-9N-P